DEPARTMENT OF ENERGY

Federal Energy Regulatory Commission

[Docket Nos. ER04-433-000, ER04-433-001, ER4-432-000, ER04-432-001]

New England Power Pool; Bangor Hydro-Electric Company, et al.; Notice of Extension of Time

January 5, 2005.

On December 8, 2004, ISO New England Inc. (ISO) filed a motion for an extension of time to file the intra-zone deliverability compliance filing required by the Commission's order issued November 8, 2004, in the above-docketed proceeding. 109 FERC ¶ 61,155 (2004). In the motion, the ISO requests that the compliance filing date be extended to allow New England Power Pool stakeholders to reach a consensus concerning a workable methodology for determining eligibility for locational installed capacity payments.

Upon consideration, notice is hereby given that an extension of time for filing the intra-zone deliverability compliance filing is granted to and including July 1, 2006, as requested by the ISO.

Magalie R. Salas,
Secretary.

[FR Doc. E5-109 Filed 1-11-05; 8:45 am]

BILLING CODE 6717-01-P